NUCLEAR REGULATORY COMMISSION

Meetings; Sunshine Act

Date: Weeks of March 17, 24, 31, April 7, 14, 21, 2003.

Place: Commissioners' Conference Room, 11555 Rockville Pike, Rockville, Maryland.

Status: Public and closed.

Matters to be Considered:

Week of March 17, 2003

Thursday, March 20, 2003

10 a.m. Briefing on status of Office of Nuclear Security and Incident Response (NSIR) Programs, Performance, and Plans (closed—Ex. 1).

2 p.m. Discussion of Management Issues (closed—Ex. 2).

Week of March 24, 2003—Tentative

Thursday, March 27, 2003

10 a.m. Briefing on status of Office of Nuclear Regulatory Research (RES) Programs, Performance, and Plans.

This meeting will be webcast live at the Web address— www.nrc.gov.

Week of March 31, 2003—Tentative

There are no meetings scheduled for the week of March 31, 2003.

Week of April 7, 2003—Tentative

Friday, April 11, 2003

9 a.m. Meeting with Advisory Committee on Reactor Safeguards (ACRS) (public meeting) (contact: John Larkins, 301-415-7360).

This meeting will be webcast live at the Web address—wow.nrc.gov.

12:30 p.m. Discussion of Management Issues (closed—Ex. 2).

Week of April 14, 2003—Tentative

There are no meetings scheduled for the week of April 14, 2003.

Week of April 21, 2003—Tentative

There are no meetings scheduled for the week of April 21, 2003.

* The schedule for Commission meetings is subject to change on short notice. To verify the status of meetings call (recording)—(301) 415-1292. Contact person for more information: David Louis Gamberoni (301) 415-1651.

* * * * *

ADDITIONAL INFORMATION: By a vote of 4-0 on March 6, the Commission determined pursuant to U.S.C. 552b(e) and § 9.107(a) of the Commission's rules that “Discussion of Legislative Issues (Closed—Ex. 9)” be held on March 6, and on less than one week's notice to the public.

By a vote of 5-0 on March 6, the Commission determined pursuant to U.S.C. 552b(e) and § 9.107(a) of the Commission's rules that “Affirmation of Final Rule to Standardize the Process for Allowing a Licensee to Release Part of Its Reactor Facility or site for Unrestricted Use Before NRC Has Approved Its License Termination Plan” be held on March 7, and on less than one week's notice to the public.

By a vote of 5-0 on march 7, the Commission determined pursuant to U.S.C. 552b(E) and § 9.107(a) of the Commission's rules that “Discussion of legislative Issues (Closed—Ed. 9)” be held on March 7, and on less than one week's notice to the public.

* * * * *

The NRC Commission meeting schedule can be found on the Internet at: http://www.nrc.gov/what-we-do/policy-making/schedule.html.

* * * * *

This notice is distributed by mail to several hundred subscribers; if you no longer wish to receive it , or would like to be added to the distribution, please contact the Office of the Secretary, Washington, DC 220555 (301-415-1969). In addition, distribution of this meeting notice over the Internet system is available. If you are interested in receiving this Commission meeting schedule electronically, please send an electronic message to dkw@nrc.gov.

Dated: March 13, 2003.
David Louis Gamberoni,
Technical Coordinator, Office of the Secretary.

[FR Doc. 03-6546 Filed 3-14-03; 11:47 am]

BILLING CODE 4590-01-M